DEPARTMENT OF HEALTH AND HUMAN SERVICES

National Institutes of Health

Office of the Director, National Institutes of Health; Notice of Meeting

Pursuant to section 10(a) of the Federal Advisory Committee Act, as amended (5 U.S.C. App.), notice is hereby given of a meeting of the Advisory Committee to the Deputy Director for Intramural Research, National Institutes of Health.

The meeting will be open to the public, with attendance limited to space available. Individuals who plan to attend and need special assistance, such as sign language interpretation or other reasonable accommodations, should notify the Contact Person listed below in advance of the meeting.

Name of Committee: Advisory Committee to the Deputy Director for Intramural Research, National Institutes of Health.

Date: March 25, 2013.

Time: 1:00-2:00 p.m. e.s.t.

Agenda: To discuss the report on the site visit review of the Office of NIH History program in the Office of Intramural Research.

Place: National Institutes of Health, Building 1, Room 151, 1 Center Drive, Bethesda, MD 20892, (Teleconference).

Conference Call Access: Conference line: 888-989-8138. Participant Passcode: 59004.

Contact Person: Margaret McBurney, Program Specialist, Office of the Deputy Director for Intramural Research, Office of the Director, NIH, 1 Center Drive, Room 151, Bethesda, MD 20892, mmcburney@od.nih.gov, Phone: (301) 496-1921, Fax: (301) 402-4273.

Any interested person may file written comments with the committee by forwarding the statement to the Contact Person listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Information is also available on the Office of Intramural Research home page: http://sourcebook.od.nih.gov/ where an agenda and any additional information for the meeting will be posted when available.

Dated: February 25, 2013.
Melanie J. Gray,
Program Analyst, Office of Federal Advisory Committee Policy.

[FR Doc. 2013-04742 Filed 2-28-13; 8:45 am]

BILLING CODE 4140-01-P